DEPARTMENT OF TRANSPORTATION

Federal Highway Administration

Environmental Impact Statement: Kake Access, AK

ACTION: Notice of intent.

SUMMARY: The Western Federal Lands Highway Division of the Federal Highway Administration (FHWA) is issuing this notice to advise the public that FHWA will prepare an Environmental Impact Statement (EIS) for a proposed transportation project to improve access to and from the community of Kake in Southeast Alaska.

Public Involvement: Opportunities for public involvement will be provided during the scoping process, public meetings, and a public hearing. Letters describing the proposed action and soliciting comments will be sent to appropriate Federal, State, and local agencies, Tribal governments, and to private organizations and citizens who have previously expressed or are known to have interest in this project. To ensure that the full range of issues related to this proposed action is addressed and all significant issues are identified, comments and suggestions are invited from all interested parties.

Public Scoping Meetings will be held in the early Spring of 2013 to receive oral and written comments on environmental concerns that should be addressed in the EIS. The public scoping meetings will be held at dates, times, and locations to be published in general circulation newspapers in the project area.

FOR FURTHER INFORMATION CONTACT: Michael Traffalis at FHWA, 610 East 5th Street, Vancouver, WA 98661; Kake-AccessEIS@dot.gov or 360-619-7787. A project-specific Web site will also be developed, which will also accept public comments, please go to www.wfl.fhwa.dot.gov/projects/ak/kake/for further updates.

SUPPLEMENTARY INFORMATION: The FHWA, in cooperation with ADOT&PF, will prepare an EIS on a proposal to address the need for an improved transportation system for access to and from the community of Kake in Southeast Alaska. In its 2004 Southeast Alaska Transportation Plan (and 2011 SATP Scoping Report and updates as posted at http://dot.alaska.gov/sereg/projects/satp/index.shtml, ADOT&PF identified the need to improve the transportation system between Southeast Communities, including the need to provide local access for the community of Kake to a major transportation and commercial hub. This EIS will be coordinated with the Kake to Petersburg Transmission Intertie EIS, which is also in progress. The Western Federal Lands Highway Division of FHWA will be the lead federal agency for the Kake Access EIS.

Currently, Kake is accessible by mainline ferry twice a week and by scheduled air taxi service to Juneau and Sitka and chartered aircraft to Petersburg. Preliminary alternatives were identified during the transportation planning phase, and will be evaluated during development of the EIS. These alternatives include:

(1) The Northern Corridor alternative, which begins in Kake and reconstructs segments of logging roads and constructs new road segments to extend a roadway that terminates in the City of Kupreanof across Wrangell Narrows from downtown Petersburg;

(2) The Intertie corridor alternative, which connects Kake with Petersburg by following one of the alternatives being considered in the Transmission Intertie EIS;

(3) The Southern Corridor alternative to Kah Sheets Bay, which follows existing mainline logging roads south from Kake before diverging along a new alignment to Kah Sheets Bay where ferry service would provide access to Mitkof Island and Petersburg, Prince of Wales Island and Ketchikan, or Wrangell;

(4) The Southern Corridor alternative to Totem Bay, which includes upgrading existing mainline logging roads and construction of new roadway south from Kake to Totem Bay where ferry service would provide access to Mitkof Island and Petersburg, Prince of Wales Island and Ketchikan, or Wrangell; and (5) the Kake Ferry Service Improvement alternative would improve direct ferry service between Kake and Juneau, Sitka, or Petersburg using existing Alaska Marine Highway Service ferries and ferry terminals or by adding a new ferry to better serve the community.

The EIS also will evaluate the No Action alternative.

Authority: 23 U.S.C. 315; 49 CFR 1.48.

Issued on: January 15, 2013.
Robert B. Lale III,
Director of Project Delivery, Western Federal Lands Highway Division, Federal Highway Administration.

[FR Doc. 2013-01161 Filed 1-18-13; 8:45 am]

BILLING CODE P